DEPARTMENT OF COMMERCE

Foreign-Trade Zones Board

(Docket 11-2007)

Proposed Foreign-Trade Zone, West Memphis, Arkansas, Application and Public Hearing

An application has been submitted to the Foreign-Trade Zones Board (the Board) by the City of West Memphis, Arkansas Public Facilities Board, an Arkansas public board, to establish a general-purpose foreign-trade zone at a site in West Memphis, Arkansas, adjacent to the Memphis CBP port of entry. The application was submitted pursuant to the provisions of the FTZ Act, as amended (19 U.S.C. 81a-81u), and the regulations of the Board (15 CFR Part 400). It was formally filed on March 14, 2007. The applicant is authorized to make the proposal under Arkansas Statute 14-143-109, part 18.

The proposed zone would be the fourth general-purpose zone in the Memphis CBP port of entry area. The existing zones are as follows: FTZ 77, Memphis, Tennessee (Grantee: City of Memphis and Shelby County, Board Order 189, 04/02/82); FTZ 223, Memphis, Tennessee (Grantee: Memphis International Trade Development Corporation, Board Order 904, 7/02/97); and, FTZ 262, Southaven, Mississippi (Grantee: Northern Mississippi FTZ, Inc., Board Order 1353, 10/01/04).

The proposed zone would consist of one site (341 acres) at the Interstate Commerce Center, located west of Mound City Road and just north of the Union Pacific Railroad in West Memphis, Arkansas. The site is comprised of parcels owned by a number of private corporations.

The application indicates a need for zone services in the West Memphis, Arkansas, area. Several firms have indicated an interest in using zone procedures for warehousing/distribution activities for a variety of products. Specific manufacturing approvals are not being sought at this time. Requests would be made to the Board on a case-by-case basis.

In accordance with the Board's regulations, a member of the FTZ staff has been designated examiner to investigate the application and report to the Board.

As part of the investigation, the Commerce examiner will hold a public hearing on April 17th, 2007, at 9:30 a.m., in the Media Room of Mid South Community College, 2000 West Broadway, West Memphis, Arkansas.

Public comment on the application is invited from interested parties. Submissions (original and 3 copies) shall be addressed to the Board's Executive Secretary at the following location: Foreign-Trade Zones Board, U.S. Department of Commerce, 1401 Constitution Ave., NW., Room 2814B, Washington, DC 20230.

The closing period for their receipt is May 22, 2007. Rebuttal comments in response to material submitted during the foregoing period may be submitted during the subsequent 15-day period (to June 6, 2007).

A copy of the application and accompanying exhibits will be available for public inspection at the Office of Foreign-Trade Zones Board's Executive Secretary at the address listed above, and at the City of West Memphis, Arkansas Public Facilities Board, 205 South Redding St., West Memphis, Arkansas 72301.

For further information, contact Kathleen Boyce at Kathleen_Boyce@ita.doc.gov or (202) 482-1346.

Dated: March 14, 2007.
Andrew McGilvray,
Executive Secretary.

[FR Doc. E7-5375 Filed 3-22-07; 8:45 am]

BILLING CODE 3510-DS-S